DEPARTMENT OF THE INTERIOR

National Park Service

[NPS-NER-BOHA-14837; PPMPSPD1Z.YM0000; PPNEBOHAS1]

Boston Harbor Islands National Recreation Area Advisory Council Annual Meeting

AGENCY: National Park Service, Interior.

ACTION: Notice of meeting.

SUMMARY: This notice announces the annual meeting of the Boston Harbor Islands National Recreation Area Advisory Council.

DATES: The annual meeting of the Boston Harbor Islands National Recreation Area Advisory Council will be held March 5, 2014, 4:00 p.m. to 6:00 p.m. (EASTERN).

ADDRESSES: The meeting will be held at WilmerHale, 60 State Street, 26th floor, Boston, MA 02109.

FOR FURTHER INFORMATION CONTACT: Giles Parker, Superintendent and Designated Federal Officer (DFO), Boston Harbor Islands National Recreation Area, 15 State Street, Suite 1100, Boston, MA 02109, by telephone (617) 223-8669, or email giles_parker@nps.gov.

The agenda will include:

• Presentation on Youth Engagement in the Park

• 2016 Anniversaries Update

• Update on Work at the Chapel on Peddocks Island

• Election of Officers

• Park Updates

SUPPLEMENTARY INFORMATION: The Council was appointed by the Director of the National Park Service pursuant to Public Law 104-333. The purpose of the Council is to advise and make recommendations to the Boston Harbor Islands Partnership with respect to the implementation of a management plan and park operations. Efforts have been made locally to ensure that the interested public is aware of the meeting dates.

This meeting is open to the public. Those wishing to submit written comments may contact the DFO by mail at National Park Service, Boston Harbor Islands National Recreation Area, 15 State Street, Suite 1100, Boston, MA 02109, or via email: giles_parker@nps.gov. Before including your address, phone number, email address, or other personal identifying information in your comment, you should be aware that your entire comment—including your personal identifying information—may be made publicly available at any time. While you may ask us in your comment to withhold your personal identifying information from public review, we cannot guarantee that we will be able to do so.

This notice is being published less than 15 days prior to the meeting due to the special emphasis of the meeting.

Dated: February 21, 2014.
Alma Ripps,
Chief, Office of Policy.

[FR Doc. 2014-04179 Filed 2-25-14; 8:45 am]

BILLING CODE 4310-WV-P